DEPARTMENT OF COMMERCE

National Oceanic and Atmospheric Administration

Proposed Information Collection; Comment Request; Social Impacts of the Implementation of a Catch Shares Program in the Mid-Atlantic

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 9, 2010.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Lisa L. Colburn, (401) 782-3253 or Lisa.L.Colburn@noaa.gov.

SUPPLEMENTARY INFORMATION:

I. Abstract

This request is for new information collection.

Social Impact Assessment (SIA) is required in fisheries under both the National Environmental Policy Act (42 U.S.C. 4321 et seq.) and the Magnuson-Stevens Fishery Conservation and Management Act (16 U.S.C. 1801 et seq.).

The required information is used to evaluate the impacts of the proposed activity on fishermen still involved in fishing since catch shares were implemented. In promulgating and issuing regulations, National Marine Fisheries Service (NMFS) must determine the relative impacts of different management measures.

Catch shares are being highly encouraged as a core strategy to improve the status of fish stock and habitat, and also the social and economic status of communities and individual fishermen (NOAA Draft Catch Share Policy). The use of catch share programs will have an impact on those individuals participating in the affected fisheries. Possible impacts include loss of employment opportunities and shoreside infrastructure, and disruption to social networks.

Amendment 16 to the Multispecies (groundfish) Fishery Management Plan, implemented on May 1, 2010, is the largest catch share program in number of permit holders that has ever been implemented in the U.S., and includes 17 group quota or `sector' allocations. More catch share plans are in discussion for the Northeast within the next several years. NMFS is required to assess the impact of these plans as well as their impacts relative to other management measures in place in the Northeast. The rapid implementation of the groundfish catch share program made capturing a full pre-implementation baseline virtually impossible. A University of Rhode Island survey of fishermen and former fishermen in New England in 2009/2010 partially captured this baseline for fisheries in general, as well as some immediate post-implementation impacts for groundfishermen in that region. This research aims to study the immediate post-implementation effects on fishermen in the groundfish fishery and those that have already exited the fishery in the Mid-Atlantic, as well as provide a baseline for other fisheries prior to any implementation of additional catch share programs.

The data collected will provide a baseline description of the affected industry to compare with future assessments of fishermen and cover (1) Participation in sectors and the management process, (2) job satisfaction, and (3) self-reported general well-being. This information will lead to a greater understanding of the social impacts this management measure may have on the individuals in the fishery.

To achieve these goals it is critical to collect the necessary data immediately after the implementation of the program. This study is a post-implementation data collection effort to achieve the stated objectives.

II. Method of Collection

The surveys will be conducted by in-person interviews.

III. Data

OMB Control Number: None.

Form Number: None.

Type of Review: Regular submission (new information collection).

Affected Public: Individuals or households.

Estimated Number of Respondents: 300.

Estimated Time per Response: 25 minutes.

Estimated Total Annual Burden Hours: 125.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 7, 2010.
Gwellnar Banks,
Management Analyst, Office of the Chief Information Officer.

[FR Doc. 2010-22591 Filed 9-9-10; 8:45 am]

BILLING CODE 3510-22-P